CENTRAL INTELLIGENCE AGENCY

Fleet Alternative Fuel Use and Vehicle Acquisition Report for Fiscal Years 2004 and 2005 (Through June 2005)

AGENCY: Central Intelligence Agency.

ACTION: Notice of availability.

SUMMARY: Pursuant to the Energy Policy Act of 1992 (EPAct) (42 U.S.C. 13218(b)) and Executive Order 13149, the Central Intelligence Agency gives notice of its intention to make its Fleet Alternative Fuel Use and Vehicle Acquisition Report for Fiscal Years 2004 and 2005 (through June 2005) available on-line as of July 14, 2005, at http://www.cia.gov/cia/reports/afvreports/2005/index.html and at http://www.cia.gov/cia/reports/afvreports/2005/report.pdf.

FOR FURTHER INFORMATION CONTACT: Public Communications Branch, Central Intelligence Agency, telephone (703) 482-0623.

Dated: July 8, 2005.
Edmund Cohen,
Director, Information Management Services.

[FR Doc. 05-13890 Filed 7-13-05; 8:45 am]

BILLING CODE 6310-02-M